DEPARTMENT OF HOMELAND SECURITY

Coast Guard

33 CFR Part 110

[Docket Number USCG-2015-1118]

RIN 1625-AA01

Anchorage Grounds; Lower Chesapeake Bay, Cape Charles, VA

AGENCY: Coast Guard, DHS.

ACTION: Advance notice of proposed rulemaking.

SUMMARY: The Coast Guard is considering amending the regulations for Hampton Roads, VA and adjacent waters anchorages by establishing a new anchorage, near Cape Charles, VA on the Lower Chesapeake Bay. This advance notice of proposed rulemaking (ANPRM) provides information relevant to, and solicits public comment on the possible creation of a Federal anchorage west of Cape Charles, VA on the Chesapeake Bay. Port of Virginia infrastructure improvements and growth in commercial vessel traffic entering the port, including large and deep-draft vessels have prompted this solicitation for comments on a potential proposed rulemaking. If the Coast Guard proceeds with a proposed rulemaking, the intended effect would be to ensure that the Hampton Roads Anchorage Grounds continue to safely support current and future maritime commerce and commercial vessel anchoring needs. We invite your comments on this ANPRM.

DATES: Comments and related material must be received by the Coast Guard on or before July 18, 2016.

ADDRESSES: You may submit comments identified by docket number USCG-2015-1118 using the Federal eRulemaking Portal at http://www.regulations.gov. See the “Public Participation and Request for Comments” portion of the SUPPLEMENTARY INFORMATION section for further instructions on submitting comments.

FOR FURTHER INFORMATION CONTACT: If you have questions on this document, call or email Lieutenant Commander Barbara Wilk, Sector Hampton Roads Waterway Management Division, phone 757-668-5581, email Barbara.Wilk@uscg.mil.

SUPPLEMENTARY INFORMATION:

I. Table of Abbreviations

ANPRM Advance notice of proposed rulemaking

CFR Code of Federal Regulations

DHS Department of Homeland Security

FR Federal Register

NM Nautical Miles

VA Virginia

II. Background, Purpose, and Legal Basis

Recreational, public, and commercial vessels use the Hampton Roads Anchorage Grounds. General regulations covering the anchorage of vessels in the port are set out in 33 CFR 110.168. Coast Guard regulations covering the rulemaking process are set out in 33 CFR subpart 1.05.

The Coast Guard held a meeting on February 20, 2015, with U.S. Navy and commercial maritime stakeholders to discuss solutions to enhance Port of Virginia waterway use. Attendance included Virginia Pilots Association, Virginia Maritime Association and local area pilots. Various courses of action were suggested by attendees as possible options to further enhance maritime commerce concurrently with U.S. Navy military requirements. This meeting provided valued insight toward developing a potential new anchorage ground that would facilitate the future growth of Port of Virginia.

The purpose of this ANPRM is to solicit comments on potential proposed rulemaking to help accommodate increase in both the number of commercial vessels and traffic density and to enhance navigation safety for vessels transiting the Hampton Roads area by creating a Federal commercial anchorage west of Cape Charles, VA on the Lower Chesapeake Bay. Current trends indicate that shipping companies will call on the Port of Virginia using larger, deeper-draft vessels. Our intent for any proposed rulemaking would be to facilitate the safety of the port anchorages by providing an anchorage of adequate size, depth, and capacity to accommodate commercial vessels calling on the Port of Virginia.

The legal basis and authorities for this advance notice of proposed rulemaking are found in 33 U.S.C. 471, 1221 through 1236; 33 CFR 1.05-1, Department of Homeland Security Delegation No. 0170.1, which collectively authorize the Coast Guard to propose, establish, and define regulatory anchorages. The Coast Guard is now considering a proposed rulemaking to establish a new commercial anchorage area in the vicinity of the Port of Virginia, west of Cape Charles, VA.

III. Discussion of Potential Proposed Rulemaking

The Coast Guard is considering a new deep-water anchorage ground for commercial vessels and to support projected growth in maritime commerce vessel traffic throughout the Port of Virginia. We are considering locating an anchorage ground in the Lower Chesapeake Bay, between Cape Charles and York Spit Channel. The anchorage ground under consideration is triangular in shape with an eastern boundary 7 nautical miles (NM) in length along the descending bank off Cape Charles, VA. The western boundary of the anchorage ground runs parallel with and 500 yards east of York Spit Channel for 6.3 NM, from lighted buoy 38 thence south to lighted buoy 30. The southern boundary of the anchorage is 5.4 NM in length measured along a line commencing 500 yards east of York Spit lighted buoy 30 thence eastward to a position approximately 1.5 miles from Cape Charles shoreline. The anchorages coordinates includes all waters of the Lower Chesapeake Bay bounded by a line connecting the following points: Latitude 37°17′33″ N., longitude 076°06′22″ W., thence southeast to latitude 37°11′29″ N., longitude 076°01′57″ W., thence west to latitude 37°11′29″ N., longitude 076°08′43″ W., thence northeast to point of origin. The approximate depths of the proposed new anchorage would be located in naturally deep water with charted depths ranging from 30 feet to 130 feet and the majority of the eastern part of the triangular anchorage having depths in excess of 60 feet. Current trends indicate that shipping companies will call on the Port of Virginia using larger, deeper draft vessels.

You may find a drawing with an illustration of the contemplated anchorage ground in the docket. Look for Illustration of Contemplated Anchorage “R.”

IV. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, you may review a Privacy Act notice regarding the Federal Docket Management System in the March 24, 2005, issue of the Federal Register (70 FR 15086).

Documents mentioned in this ANPRM as being available in the docket, and all public comments, will be in our online docket at http://www.regulations.gov and can be viewed by following that Web site's instructions. Additionally, if you go to the online docket and sign up for email alerts, you will be notified when comments are posted or a final rule is published.

We plan to hold two public meetings to receive oral comments on this ANPRM and will announce the dates, times, and locations in a separate document published in the Federal Register. If you signed up for docket email alerts mentioned in the paragraph above, you will receive an email notice when the public meeting notice is published and placed in the docket.

V. Information Requested

Before the Coast Guard proposes specific regulations to amend and establish a new anchorage on the Lower Chesapeake Bay, the Coast Guard is requesting input from the public. The Coast Guard is particularly interested in receiving comments from all of those who have a stake in the viability of a Cape Charles alternative commercial deep-water anchorage ground for commercial vessels and all those port stake holders who contribute to the unique characteristics of the Port of Virginia. Please provide additional information not specifically solicited by this ANPRM if you believe it would be helpful in understanding the implications of creating a Federal anchorage west of Cape Charles. Please submit any comments or concerns you may have in accordance with the ADDRESSES section.

Dated: March 25, 2016.
Stephen P. Metruck,
Rear Admiral, U.S. Coast Guard, Commander, Fifth Coast Guard District.

[FR Doc. 2016-09029 Filed 4-18-16; 8:45 am]

BILLING CODE 9110-04-P